DEPARTMENT OF ENERGY

Federal Energy Regulatory Commission

Combined Notice of Filings

Take notice that the Commission has received the following Natural Gas Pipeline Rate and Refund Report filings:

Filings Instituting Proceedings

Docket Numbers: RP18-440-000.

Applicants: Transcontinental Gas Pipe Line Company.

Description: § 4(d) Rate Filing: FOS—FDLS—Agreement Effective Date to be effective 3/17/2018.

Filed Date: 2/14/18.

Accession Number: 20180214-5086.

Comments Due: 5 p.m. ET 2/26/18.

Docket Numbers: RP18-443-000.

Applicants: National Fuel Gas Supply Corporation.

Description: § 4(d) Rate Filing: New Price Index—for IG Rate to be effective 4/1/2018.

Filed Date: 2/15/18.

Accession Number: 20180215-5055.

Comments Due: 5 p.m. ET 2/27/18.

Docket Numbers: RP18-444-000.

Applicants: Southern Natural Gas Company, L.L.C.

Description: § 4(d) Rate Filing: Fuel Retention Rates—Spring 2018 to be effective 4/1/2018.

Filed Date: 2/15/18.

Accession Number: 20180215-5117.

Comments Due: 5 p.m. ET 2/27/18.

Docket Numbers: RP18-445-000.

Applicants: Toshiba Corporation,Texas Eastern Transmission, LP.

Description: Joint Petition for Clarification or, in the alternative, Limited Waiver of Toshiba Corporation, et al.

Filed Date: 2/15/18.

Accession Number: 20180215-5128.

Comments Due: 5 p.m. ET 2/27/18.

Docket Numbers: RP18-446-000.

Applicants: Natural Gas Pipeline Co. of America LLC.

Description: § 4(d) Rate Filing: Amendment to Negotiated Rate Agreement-Oklahoma Natural Gas Company to be effective 2/16/2018.

Filed Date: 2/16/18.

Accession Number: 20180216-5000.

Comments Due: 5 p.m. ET 2/28/18.

Docket Numbers: RP18-447-000.

Applicants: Empire Pipeline, Inc.

Description: § 4(d) Rate Filing: Fuel Tracker (Empire tracking Supply) Effective 04/01/18 to be effective 4/1/2018.

Filed Date: 2/16/18.

Accession Number: 20180216-5162.

Comments Due: 5 p.m. ET 2/28/18.

Docket Numbers: RP18-448-000.

Applicants: Empire Pipeline, Inc.

Description: § 4(d) Rate Filing: GT&C 4.1(f) Central Delivery/Receipt Points (Empire) to be effective 4/1/2018.

Filed Date: 2/16/18.

Accession Number: 20180216-5177.

Comments Due: 5 p.m. ET 2/28/18.

Docket Numbers: RP18-449-000.

Applicants: National Fuel Gas Supply Corporation.

Description: § 4(d) Rate Filing: Appalachian Zones & Central Delivery/Receipt Points to be effective 4/1/2018.

Filed Date: 2/16/18.

Accession Number: 20180216-5179.

Comments Due: 5 p.m. ET 2/28/18.

Docket Numbers: RP18-450-000.

Applicants: National Fuel Gas Supply Corporation.

Description: § 4(d) Rate Filing: Fuel Tracker-Supply (Effective 04/01/18) to be effective 4/1/2018.

Filed Date: 2/16/18.

Accession Number: 20180216-5180.

Comments Due: 5 p.m. ET 2/28/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 22, 2018.
Nathaniel J. Davis, Sr.,
Deputy Secretary.

[FR Doc. 2018-04140 Filed 2-28-18; 8:45 am]

BILLING CODE 6717-01-P